DEPARTMENT OF COMMERCE

National Oceanic and Atmospheric Administration

Proposed Information Collection; Comment Request; Defining Target Levels for Ecosystem Components: A Socio-Ecological Approach

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 9, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Karma Norman, (206) 302-2418 or Karma.Norman@noaa.gov.

SUPPLEMENTARY INFORMATION:

I. Abstract

This notice is for the request of a new information collection.

The creation of the Puget Sound Partnership (PSP) allowed for a group of private and public entities, local citizens, tribes and businesses to begin to collectively work toward restoring the ecological health of the Puget Sound. With the PSP's inception, the Puget Sound ecosystem has become a national example of ecosystem-based management (EBM) implementation. The Partnership Action Agenda indentified 80 near-term actions that are required for ecosystem recovery. These actions, however, will require specific performance measures.

Ecosystems can contain numerous species, and a mean level of species placement within a predator/prey chain or food web can serve as an ecological indicator. Similarly, measures of relative biodiversity may provide indications of ecological health and therefore function as ecological indicators. Such indicators can facilitate Ecosystem-based Management, when target levels for indicators exist. Because targets are an expression of the desired state of the ecosystem, establishing targets must include both ecological understanding and societal values. This project will develop a unique approach for identifying scientifically rigorous ecosystem targets that explicitly considers social perspectives. For this reason, the Northwest Fisheries Science Center seeks to conduct social norm analyses which involve a survey of Puget Sound community stakeholders. Stakeholders will be asked, via telephone survey, a series of general questions regarding their views on the Puget Sound environment and the desirability of a range of potential ecosystem conditions for the Puget Sound.

A random digit dial phone survey will be conducted. The survey will be voluntary, and contacted individuals may decline to participate. Respondents will be asked to respond to statements regarding their perceptions of the health of the Puget Sound. Demographic and employment information will be collected so that responses can be organized based on a stakeholder typology. This survey is essential because data on social norms, values and beliefs in the Puget Sound region are sparse; yet, they are critical to the development of sound ecosystem health targets.

II. Method of Collection

Respondents will be contacted via telephone for administration of the survey.

III. Data

OMB Control Number: None.

Form Number: None.

Type of Review: Regular submission (request for a new information collection).

Affected Public: Individuals or households.

Estimated Number of Respondents: 1,000.

Estimated Time per Response: 15 minutes per response.

Estimated Total Annual Burden Hours: 250.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 4, 2011.
Gwellnar Banks,
Management Analyst, Office of the Chief Information Officer.

[FR Doc. 2011-5358 Filed 3-8-11; 8:45 am]

BILLING CODE 3510-22-P